DEPARTMENT OF ENERGY

Federal Energy Regulatory Commission

Combined Notice of Filings

Take notice that the Commission has received the following Natural Gas Pipeline Rate and Refund Report filings:

Filings Instituting Proceedings

Docket Numbers: RP13-260-000.

Applicants: High Point Gas Transmission, LLC.

Description: High Point Gas Transmission, LLC submits tariff filing per 154.203: NAESB Compliance Filing to be effective 12/1/2012.

Filed Date: 11/5/12.

Accession Number: 20121105-5104.

Comments Due: 5 p.m. ET 11/19/12.

Docket Numbers: RP13-261-000.

Applicants: Algonquin Gas Transmission, LLC.

Description: Algonquin Gas Transmission, LLC submits tariff filing per 154.204: Con Ed Releases November 2012 Ramapo to be effective 11/3/2012.

Filed Date: 11/5/12.

Accession Number: 20121105-5106.

Comments Due: 5 p.m. ET 11/19/12.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP13-172-001.

Applicants: Questar Southern Trails Pipeline Company.

Description: Questar Southern Trails Pipeline Company submits tariff filing per 154.205(b): Section 35, Segmentation of Capacity, Amended to be effective 12/1/2012.

Filed Date: 11/5/12.

Accession Number: 20121105-5128.

Comments Due: 5 p.m. ET 11/19/12.

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 6, 2012.
Nathaniel J. Davis, Sr.,
Deputy Secretary.

[FR Doc. 2012-27891 Filed 11-15-12; 8:45 am]

BILLING CODE 6717-01-P